DEPARTMENT OF COMMERCE

International Trade Administration

[A-570-867]

Automotive Replacement Glass Windshields from the People's Republic of China: Final Results of Sunset Review and Revocation of Antidumping Duty Order

AGENCY: Import Administration, International Trade Administration, Department of Commerce.

SUMMARY: On March 1, 2007, the Department of Commerce (“the Department”) initiated the sunset review of the antidumping duty order on automotive replacement glass windshields from the People's Republic of China (“PRC”). Because the domestic interested parties did not participate in the sunset review, the Department is revoking the antidumping duty order.

EFFECTIVE DATE: April 4, 2007

FOR FURTHER INFORMATION CONTACT: Hilary E. Sadler, Esq., or Juanita Chen, AD/CVD Operations, Import Administration, International Trade Administration, U.S. Department of Commerce, 14th Street and Constitution Avenue, NW, Washington, DC 20230; telephone: (202) 482-4340 and (202) 482-1904, respectively.

SUPPLEMENTARY INFORMATION:

Background

On April 4, 2002, the Department issued an antidumping duty order on automotive replacement glass windshields from the PRC. See Antidumping Duty Order: Automotive Replacement Glass Windshields from the People's Republic of China, 67 FR 16087 (April 4, 2002). Pursuant to section 751(c) of the Act and 19 CFR 351.218, the Department initiated the sunset review of this order. See Notice of Initiation of Five-year (“Sunset”) Reviews, 72 FR 9307 (March 1, 2007). The Department did not receive a notice of intent to participate in the sunset review from domestic interested parties by the deadline date. See 19 CFR 351.218(d)(1)(i). As a result, the Department determined that no domestic party intends to participate in the sunset review. On March 21, 2007, the Department notified the International Trade Commission of its intent to issue a final determination revoking this antidumping duty order.

Scope of the Order

The products covered by this order are automotive replacement glass windshields, and parts thereof, whether clear or tinted, whether coated or not, and whether or not they include antennas, ceramics, mirror buttons or VIN notches, and whether or not they are encapsulated. Automotive replacement glass windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged. Automotive replacement glass windshields subject to this order are currently classifiable under subheading 7007.21.10.10 of the Harmonized Tariff Schedule of the United States (“HTSUS”). Specifically excluded from the scope of the order are laminated automotive windshields sold for use in original assembly of vehicles. While HTSUS subheadings are provided for convenience and customs purposes, the written description of the scope of the order is dispositive.

Determination to Revoke

Pursuant to section 751(c)(3)(A) of the Tariff Act of 1930, as amended (“the Act”) and 19 CFR 351.218(d)(1)(iii)(B)(3), if no domestic interested party responds to the notice of initiation, the Department shall issue a final determination revoking the order within 90 days after the initiation of the review. Because no domestic interested party filed a notice of intent to participate or a substantive response, the Department finds that no domestic interested party is participating in this review and is revoking this antidumping duty order. Pursuant to section 751(c)(3)(A) of the Act and 19 CFR 351.222(i)(2)(i), the effective date of revocation is April 4, 2007 (i.e., the fifth anniversary of the date of publication in the Federal Register of the notice of the antidumping duty order). The Department will instruct U.S. Customs and Border Protection to discontinue suspension of liquidation and collection of cash deposits on entries of the subject merchandise entered or withdrawn from warehouse on or after April 4, 2007, the effective date of revocation of the antidumping duty order. The Department will complete any pending administrative reviews of this order and will conduct administrative reviews of subject merchandise entered prior to the effective date of revocation in response to appropriately filed requests for review.

This five-year sunset review and notice are in accordance with section 751(c)(3)(A) and published pursuant to section 777(i)(1) of the Act.

Dated: May 25, 2007.
David M. Spooner,
Assistant Secretary for Import Administration.

[FR Doc. E7-10779 Filed 6-4-07; 8:45 am]

BILLING CODE 3510-DS-S